DEPARTMENT OF AGRICULTURE

Food and Nutrition Service

Agency Information Collection Activities: Proposed Collection: Comment Request—Summer Food Site Locations for State Agencies

AGENCY: Food and Nutrition Service (FNS), USDA.

ACTION: Notice.

SUMMARY: In accordance with the Paperwork Reduction Act of 1995, this notice invites the general public and other public agencies to comment on this proposed information collection. This collection is a new information collection for the voluntary collection of summer meal site information from State agencies.

DATES: Written comments must be received on or before October 9, 2018.

ADDRESSES: Comments may be sent to: Community Meals Branch, Food and Nutrition Service, U.S. Department of Agriculture, 3101 Park Center Drive, Room 1200, Alexandria, VA 22302. Comments may also be submitted via fax to the attention of Andrea Farmer at 703-305-6294 or via email to Andrea.Farmer@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Andrea Farmer at 703-305-2590.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Summer Food Site Locations for State Agencies.

Form Number: FNS-905.

OMB Number: 0584-XXXX.

Expiration Date: XX/XX/20xx.

Type of Request: This is a new data collection.

Abstract:

This data collection was originally part of OMB control number 0584-0474 National Hunger Clearinghouse Database Forms and now has been transferred to Child Nutrition in order to improve efficiency under form number FNS-905 and a new OMB control number (0584-XXXX) Summer Food Site Locations for State Agencies.

The Form FNS-905: Summer Food Site Locations for State Agencies is the instrument used to voluntarily collect information from State agencies about approved summer meal sites for the Summer Food Service Program and the Seamless Summer Option of the National School Lunch Program. The form collects site name, location, and operating details, such as dates and times of the day that the sites are in operation, that provide summer meals to children 18 years and younger in low income communities during the summer. The Form FNS-905 may only be completed by State agencies as Summer Sites must be approved by the State agencies before being made public.

The Form FNS-905 is part of requirements found in statute in Section 26 of the National School Lunch Act (NLSA), which mandates that the Food and Nutrition Service (FNS) enter into a contract with a nongovernmental organization to develop and maintain a national information clearinghouse of grassroots organizations working on hunger, food, nutrition, and other agricultural issues, including food recovery, food assistance and self-help activities to aid individuals to become self-reliant, and other activities that empower low-income individuals.

The Form FNS-543, originally developed to satisfy this statutory requirement, collects information and resources to help build the capacity of emergency food providers to address the immediate needs of struggling families and individuals while promoting self-reliance and access to healthy food. The Form FNS-543a was submitted as an addendum to Form FNS-543. The Form FNS-543 collects information directly from organizations providing other types of assistance; however, the information collected through Form FNS-543a was collected and submitted by the State agencies. Because of this, FNS decided to develop a new form to replace Form FNS-543a. Form FNS-905 was developed for this purpose and may only be submitted by State agencies. The Form FNS-905 collects information about approved summer meal sites. The information from both of these forms populates the National Hunger Clearinghouse, which is a resource for the public to find information about the food safety net.

FNS will also provide this information for individuals to find meals for children when school is out, and for groups that assist these low income individuals or communities to find meals for children in the summer. The information provides an innovative way to connect families to meals during the summer months, and assists communities in the development, coordination, and evaluation of strategic initiatives, partnership, and outreach activities.

Affected Public: State, Local and Tribal Government: Respondent groups identified include State agencies administering the Summer Food Service Program.

Estimated Number of Respondents: The total estimated number of respondents is 53. This includes: the 50 State agencies administering the Summer Food Service Program as well as the District of Columbia, Virgin Islands and Puerto Rico.

Estimated Number of Responses per Respondent: Form FNS-905 is voluntary and State agencies are asked to complete the form at least once annually. However, State agencies may submit revisions weekly throughout the summer (approximately 17 weeks). On average, State agencies tend to submit 8 revisions in the course of a year.

Estimated Total Annual Responses: 424.

Estimated Time per Response: The estimated time of response is approximately 7.5 minutes (0.125 hours) for each response.

Estimated Total Annual Burden on Respondents: 53 hours. See the table below for estimated total annual burden for the state agencies.

Respondent | Estimated number respondent | Responses annually per respondent | Total annual responses (col. bxc) | Estimated avg. number of hours per response | Estimated total hours (col. dxe)
Reporting Burden
State agencies | 53 | 8 | 424 | 0.125 | 53
Total Reporting Burden | 53 |  | 424 |  | 53

Dated: July 30, 2018.
Brandon Lipps,
Administrator, Food and Nutrition Service.

[FR Doc. 2018-16816 Filed 8-6-18; 8:45 am]

BILLING CODE 3410-30-P